DEPARTMENT OF ENERGY

Office of Energy Efficiency and Renewable Energy

Wind and Water Power Technologies Office; Request for Information

AGENCY: Office of Energy Efficiency and Renewable Energy, Department of Energy.

ACTION: Notice.

SUMMARY: The U.S. Department of Energy (DOE) invites public comment on its Request for Information (RFI) to help inform DOE's research and development activities related to Distributed Generation from Wind Energy Systems.

DATES: Comments regarding the RFI must be received on or before September 21, 2014.

ADDRESSES: The complete RFI document is located at https://eere-exchange.energy.gov/.

FOR FURTHER INFORMATION CONTACT: Responses to the RFI should be sent via email to DistributedGeneration@ee.doe.gov. Further instruction can be found in the RFI document posted on EERE Exchange.

SUPPLEMENTARY INFORMATION: The Wind and Water Power Technologies Office is within the Department of Energy's Office of Energy Efficiency and Renewable Energy (DOE-EERE). WWPTO program activities lead the nation's efforts to accelerate the deployment of wind power technologies through improved performance, lower costs, and reduced market barriers. The Wind Program works with national laboratories, industry, universities, and other federal agencies to conduct research and development activities through competitively selected, directly funded, and cost-shared projects. WWPTO efforts target offshore wind, land based utility-scale and distributed applications of wind power technology. To find more information about the Wind Program, please visit: http://energy.gov/eere/wind/wind-program.

The focus of this RFI will be on the Wind Program's distributed wind portfolio. Distributed wind energy systems are commonly installed on residential, agricultural, commercial, institutional, and industrial sites connected either physically or virtually on the customer side of the meter (to serve on-site load) or directly to the local distribution or micro grid (to support local grid operations or offset nearby loads). Because the definition is based on a wind project's location relative to end-use and power-distribution infrastructure, rather than on technology size or project size, the distributed wind market includes wind turbines and projects of many sizes. For example, distributed wind systems can range in size from a 1-kW or smaller off-grid turbine at a remote cabin to a 10-kW turbine at a home to one or several multi-megawatt turbines at a university campus, manufacturing facility, or other large facility. To find more information on the Wind Program's distributed wind portfolio, please visit: http://energy.gov/eere/wind/distributed-wind.

DOE's Wind Program is planning a research and development program which will seek to ensure system performance meets consumer expectations; develop reliable, low-cost technology optimized for distributed applications; increase utility confidence in integration of distributed wind systems; and streamline the project development and installation process. The activities under this program would encompass the following focus areas:

1. Wind Resource Characterization & Assessment

• Better understanding of resource creates reliable turbine designs, properly sited distributed wind systems, and mitigates financial risk with regard to payback

2. Turbine Technology

• Technology transfer and innovation to expand rotors and increase hub heights for small and midsize turbines for increased performance, and advanced manufacturing for lower cost systems

3. Distributed Grid Integration

• Accurate generator modeling and clear understanding of operating impacts to mitigate interconnection/integration effects

4. Soft Cost Reduction

• Reduced red tape from permitting requirements and interconnection procedures will lower costs, accelerate adoption and integration

The purpose of this RFI is to solicit feedback from industry, academia, research laboratories, government agencies, and other stakeholders on DOE's new perspective on distributed wind and R&D focus areas in order to inform future activities and priorities. EERE is specifically interested in information on each of the focus areas listed above. This is solely a request for information and not a Funding Opportunity Announcement (FOA). EERE is not accepting applications through this RFI. DOE will not respond to questions regarding this RFI.

In its RFI, DOE requests comments, information, and recommendations on four main activities related to Distributed Wind Energy Systems. The RFI is available at: https://eere-exchange.energy.gov/.

Issued in Washington, DC, on August 11, 2014.
Jose Zayas,
Director, Wind and Water Power Technologies Office, U.S. Department of Energy.

[FR Doc. 2014-19295 Filed 8-13-14; 8:45 am]

BILLING CODE 6450-01-P